BUREAU OF CONSUMER FINANCIAL PROTECTION

[Docket No. CFPB-2023-0007]

Agency Information Collection Activities: Comment Request

AGENCY: Bureau of Consumer Financial Protection.

ACTION: Notice and request for comment.

SUMMARY: In accordance with the Paperwork Reduction Act of 1995 (PRA), the Consumer Financial Protection Bureau (Bureau or CFPB) is requesting the extension of the Office of Management and Budget's (OMB's) approval for an existing information collection titled “Application for the Bureau's Advisory Committees” approved under OMB Number 3170-0037.

DATES: Written comments are encouraged and must be received on or before February 10, 2023 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Requests for additional information should be directed to Anthony May, Paperwork Reduction Act Officer, at (202) 435-7278, or email: CFPB_PRA@cfpb.gov. If you require this document in an alternative electronic format, please contact CFPB_Accessibility@cfpb.gov. Please do not submit comments to these email boxes.

SUPPLEMENTARY INFORMATION:

Title of Collection: Application for the Bureau's Advisory Committees.

OMB Control Number: 3170-0037.

Type of Review: Extension without change of a currently approved collection.

Affected Public: Individuals or households.

Estimated Number of Respondents: 425.

Estimated Total Annual Burden Hours: 491.

Abstract: The Director of the Bureau may invite individuals with special expertise to serve on the Bureau's advisory committees. The selection-related material will allow the Bureau to obtain information on the qualifications of individuals nominated to an advisory committee and will aid the Bureau in selecting members for service on an advisory committee. The selection-related information will also aid the Bureau in determining the appropriateness of participation in particular matters. The information collected from applicants will aid the Bureau in the exercise of its functions. The feedback collected will allow the Bureau to evaluate and improve its advisory committee program. The Bureau will use the information collected for vetting candidates, issuing travel orders, or providing reimbursement for travel expenses (as applicable).

Request for Comments: The Bureau published a 60-day Federal Register notice on October 26, 2022 (87 FR 64775) under Docket Number: CFPB-2022-0072. The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2023-00317 Filed 1-10-23; 8:45 am]

BILLING CODE 4810-AM-P